ARCHITECTURAL AND TRANSPORTATION BARRIERS COMPLIANCE BOARD

Notice of Meeting

AGENCY: Architectural and Transportation Barriers Compliance Board.

ACTION: Notice of meeting.

SUMMARY: The Architectural and Transportation Barriers Compliance Board (Access Board) has scheduled its ad hoc committee and board meetings to take place in Washington, DC on Wednesday, November 10, 2004 as noted below.

DATES: The schedule of events is as follows:

Wednesday, November 10, 2004

9:30 a.m.-Noon: Ad Hoc Committee on Public Rights-of-Way—Closed

1:30 p.m.-3 p.m. Board Meeting

ADDRESSES: The meeting will be held at the Wardman Park Marriott Hotel, 2660 Woodley Road, NW., Washington, DC 20008.

FOR FURTHER INFORMATION CONTACT: For further information regarding this meeting, please contact Lawrence W. Roffee, Executive Director, (202) 272-0001 (voice) and (202) 272-0082 (TTY).

SUPPLEMENTARY INFORMATION: At the Board meeting, the Access Board will consider the following agenda items: (a) Approval of the July 12, 2004 draft meeting minutes; and, (b) public rights-of-way guidelines (closed).

This meeting is accessible to persons with disabilities. If you plan to attend and require a sign language interpreter or similar accommodation, please make your request with the Board by November 1, 2004. Persons attending Board meetings are requested to refrain from using perfume, cologne, and other fragrances for the comfort of other participants.

James J. Raggio,
General Counsel.

[FR Doc. 04-24158 Filed 10-28-04; 8:45 am]

BILLING CODE 8150-01-P